DEPARTMENT OF ENERGY

Federal Energy Regulatory Commission

Combined Notice of Filings #2

Take notice that the Commission received the following electric rate filings:

Docket Numbers: ER14-2238-001.

Applicants: Repsol Energy North America Corporation.

Description: Notice of Change in Status of Repsol Energy North America Corporation.

Filed Date: 10/27/15.

Accession Number: 20151027-5208.

Comments Due: 5 p.m. ET 11/17/15.

Docket Numbers: ER15-623-008.

Applicants: PJM Interconnection, L.L.C.

Description: Compliance filing: Revisions to the OATT and RAA to comply fully with the June 22 Order to be effective 7/22/2015.

Filed Date: 10/27/15.

Accession Number: 20151027-5246.

Comments Due: 5 p.m. ET 11/17/15.

Docket Numbers: ER16-143-000.

Applicants: Citizens Sunrise Transmission LLC.

Description: § 205(d) Rate Filing: Annual TRBAA Filing to be effective1/1/2016.

Filed Date: 10/27/15.

Accession Number: 20151027-5029.

Comments Due: 5 p.m. ET 11/17/15.

Docket Numbers: ER16-144-000.

Applicants: Midcontinent Independent System Operator, Inc., Ameren Illinois Company.

Description: § 205(d) Rate Filing: 2015-10-27_SA 2861 ATXI-AIC Construction Agreement—Ipava Substation to be effective 10/27/2015.

Filed Date: 10/27/15.

Accession Number: 20151027-5121.

Comments Due: 5 p.m. ET 11/17/15.

Docket Numbers: ER16-145-000.

Applicants: NorthWestern Corporation.

Description: § 205(d) Rate Filing: SA 312 7th Revised—NITSA with Southern Montana to be effective 11/1/2015.

Filed Date: 10/27/15.

Accession Number: 20151027-5123.

Comments Due: 5 p.m. ET 11/17/15.

Docket Numbers: ER16-146-000.

Applicants: NorthWestern Corporation.

Description: Initial rate filing: SA 760—NITSA with Beartooth Electric Cooperative to be effective 11/1/2015.

Filed Date: 10/27/15.

Accession Number: 20151027-5134.

Comments Due: 5 p.m. ET 11/17/15.

Docket Numbers: ER16-147-000.

Applicants: Northern States Power Company, a Minnesota corporation.

Description: § 205(d) Rate Filing: 2015-10-27 NSP-SEY, StJms, HILLS,-NOC to be effective 1/1/2016.

Filed Date: 10/27/15.

Accession Number: 20151027-5186.

Comments Due: 5 p.m. ET 11/17/15.

Docket Numbers: ER16-148-000.

Applicants: Southern California Edison Company.

Description: § 205(d) Rate Filing: 4 GIAs & 4 Distribution Serv Agmts with FTS Master Tenant 1, LLC to be effective 12/27/2015.

Filed Date: 10/27/15.

Accession Number: 20151027-5189.

Comments Due: 5 p.m. ET 11/17/15.

Docket Numbers: ER16-149-000.

Applicants: Midcontinent Independent System Operator, Inc.

Description: § 205(d) Rate Filing: 2015-10-27_SA 2854 MDU-MDU Facilities Construction Agreement (F109) to be effective 10/28/2015.

Filed Date: 10/27/15.

Accession Number: 20151027-5245.

Comments Due: 5 p.m. ET 11/17/15.

Take notice that the Commission received the following land acquisition reports:

Docket Numbers: LA15-3-000.

Applicants: Bayonne Energy Center, LLC, Zone J Tolling Co., LLC, Macquarie Energy LLC.

Description: Quarterly Land Acquisition Report of Bayonne Energy Center, LLC, et al.

Filed Date: 10/27/15.

Accession Number: 20151027-5233.

Comments Due: 5 p.m. ET 11/17/15.

Docket Numbers: LA15-3-000.

Applicants: Battery Utility of Ohio, LLC, Border Winds Energy, LLC, Pleasant Valley Wind, LLC, Joliet Battery Storage LLC, West Chicago Battery Storage LLC.

Description: Quarterly Land Acquisition Report of Battery Utility of Ohio, LLC, et al.

Filed Date: 10/27/15.

Accession Number: 20151027-5234.

Comments Due: 5 p.m. ET 11/17/15.

The filings are accessible in the Commission's eLibrary system by clicking on the links or querying the docket number.

Any person desiring to intervene or protest in any of the above proceedings must file in accordance with Rules 211 and 214 of the Commission's Regulations (18 CFR 385.211 and § 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 27, 2015.
Nathaniel J. Davis, Sr.,
Deputy Secretary.

[FR Doc. 2015-27843 Filed 10-30-15; 8:45 am]

BILLING CODE 6717-01-P